DEPARTMENT OF ENERGY

Federal Energy Regulatory Commission

Combined Notice of Filings #1

Take notice that the Commission received the following exempt wholesale generator filings:

Docket Numbers: EG18-42-000.

Applicants: McBride Place Energy, LLC.

Description: Notice of Self-Certification of Exempt Wholesale Generator Status of McBride Place Energy, LLC.

Filed Date: 2/2/18.

Accession Number: 20180202-5211.

Comments Due: 5 p.m. ET 2/23/18.

Docket Numbers: EG18-43-000.

Applicants: Wy'East Solar, LLC.

Description: Notice of Self-Certification of Wy'East Solar, LLC.

Filed Date: 2/5/18.

Accession Number: 20180205-5099.

Comments Due: 5 p.m. ET 2/26/18.

Take notice that the Commission received the following electric rate filings:

Docket Numbers: ER13-343-008; ER13-342-012; ER16-700-001; ER16-701-001.

Applicants: CPV Shore, LLC, CPV Maryland, LLC, CPV Towantic, LLC, CPV Valley, LLC.

Description: Second Supplement to June 30, 2017 Market Power Update of CPV Maryland, LLC, et al.

Filed Date: 2/2/18.

Accession Number: 20180202-5215.

Comments Due: 5 p.m. ET 2/23/18.

Docket Numbers: ER18-792-000.

Applicants: Southwest Power Pool, Inc.

Description: § 205(d) Rate Filing: Over-Collected Losses Tariff Revisions to be effective 5/1/2018.

Filed Date: 2/2/18.

Accession Number: 20180202-5180.

Comments Due: 5 p.m. ET 2/23/18.

Docket Numbers: ER18-801-000.

Applicants: ITC Midwest LLC.

Description: § 205(d) Rate Filing: Third Amended and Restated Corn Belt Interconnection Agreement to be effective 4/7/2018.

Filed Date: 2/5/18.

Accession Number: 20180205-5100.

Comments Due: 5 p.m. ET 2/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 5, 2018.
Nathaniel J. Davis, Sr.,
Deputy Secretary.

[FR Doc. 2018-02771 Filed 2-9-18; 8:45 am]

BILLING CODE 6717-01-P